DEPARTMENT OF HOMELAND SECURITY

Coast Guard

33 CFR Part 117

[CGD11-07-011]

RIN 1625-AA09

Drawbridge Operation Regulations; California Route 12 Drawbridge, Near Isleton, CA

AGENCY: Coast Guard, DHS.

ACTION: Notice of temporary deviation from regulations.

SUMMARY: The Commander, Eleventh Coast Guard District, has issued a temporary deviation from the regulation governing the operation of the California Route 12 Drawbridge across the Mokelumne River, mile 3.0, near Isleton, CA. The deviation is necessary for the bridge owner, the California Department of Transportation (Caltrans), to perform scheduled roadway maintenance. This deviation allows the bridge to remain in the closed-to-navigation position Monday through Thursday, 7 p.m. to 6 a.m., Saturdays 12:01 a.m. to 6 a.m., and Sundays 10 p.m. to 6 a.m.

DATES: This deviation is effective from 7 p.m. on June 4, 2007 through 6 a.m. on September 15, 2007.

ADDRESSES: Materials referred to in this document are available for inspection or copying at Commander (dpw), Eleventh Coast Guard District, Building 50-2, Coast Guard Island, Alameda, CA 94501-5100, between 8 a.m. and 4 p.m., Monday through Friday, except Federal holidays. The telephone number is (510) 437-3516. The Eleventh Coast Guard District maintains the public docket for this temporary deviation.

FOR FURTHER INFORMATION CONTACT: David H. Sulouff, Chief, Bridge Section, Eleventh Coast Guard District, telephone (510) 437-3516.

SUPPLEMENTARY INFORMATION: Caltrans requested a temporary change to the operation of the California Route 12 Drawbridge, mile 3.0, Mokelumne River, near Isleton, CA. The California Route 12 Drawbridge navigation span provides a vertical clearance of 7 feet above Mean High Water in the closed-to-navigation position. The draw opens on signal between 6 a.m. and 10 p.m., except that during the following periods the draw need only open for recreational vessels on the hour, 20 minutes past the hour, and 40 minutes past the hour; Saturdays 10 a.m. until 2 p.m.; Sundays 11 a.m. until 6 p.m.; Memorial Day, 4th of July, and Labor Day, 11 a.m. until 6 p.m. At all other times, it opens on signal if at least four hours notice is given as required by 33 CFR 117.175. Navigation on the waterway is recreational, search and rescue and commercial traffic hauling materials for levee repair.

This deviation is effective from 7 p.m. on June 4, 2007 through 6 a.m. on September 15, 2007. Caltrans requested the drawspan be secured in the closed-to-navigation position Monday through Thursday, 7 p.m. to 6 a.m., Saturdays 12:01 a.m. to 6 a.m., and Sundays 10 p.m. to 6 a.m. The drawspan will resume normal operations, for holidays, July 2, 2007 through July 7, 2007 and September 2, 2007 through September 5, 2007. During the temporary deviation period, the bridge roadway surface will be rehabilitated. This work can only be conducted during periods of moderate temperatures and low humidity. This temporary deviation has been coordinated with waterway users. No party has indicated this work would have a significant impact on their operations. Alternate routes are available for vessels while the drawspan is secured in the closed-to-navigation position. Vessels that can transit the bridge, while in the closed-to-navigation position, may continue to do so at any time.

In accordance with 33 CFR 117.35(e), the drawbridge must return to its regular operating schedule immediately at the end of the designated time period. This deviation from the operating regulations is authorized under 33 CFR 117.35.

Dated: May 22, 2007.
J.A. Breckenridge,
Rear Admiral, U.S. Coast Guard, Commander, Eleventh Coast Guard District.

[FR Doc. E7-10572 Filed 5-31-07; 8:45 am]

BILLING CODE 4910-15-P